DEPARTMENT OF THE TREASURY

Alcohol and Tobacco Tax and Trade Bureau

27 CFR Part 4

[Docket No. TTB-2011-0002; Notice No. 116]

RIN 1513-AA42

Proposed Addition of New Grape Variety Names for American Wines

AGENCY: Alcohol and Tobacco Tax and Trade Bureau, Treasury.

ACTION: Notice of proposed rulemaking.

SUMMARY: The Alcohol and Tobacco Tax and Trade Bureau proposes to amend its regulations by adding a number of new names to the list of grape variety names approved for use in designating American wines. In addition, TTB proposes to include separate entries for synonyms of existing entries so that readers can more readily find them and to correct one existing entry.

DATES: TTB must receive written comments on or before March 21, 2011.

ADDRESSES: You may send comments on this notice to one of the following addresses:

• http://www.regulations.gov (via the online comment form for this notice as posted within Docket No. TTB-2011-0002 at “Regulations.gov,” the Federal e-rulemaking portal);

• Director, Regulations and Rulings Division, Alcohol and Tobacco Tax and Trade Bureau, P.O. Box 14412, Washington, DC 20044-4412; or

• Hand delivery/courier in lieu of mail: Alcohol and Tobacco Tax and Trade Bureau, 1310 G Street, NW., Suite 200E, Washington, DC 20005.

See the Public Participation section of this notice for specific instructions and requirements for submitting comments, and for information on how to request a public hearing.

You may view copies of this notice, selected supporting materials, and any comments TTB receives about this proposal within Docket No. TTB-2011-0002 at http://www.regulations.gov. A direct link to this docket is posted on the TTB Web site at http://www.ttb.gov/wine/wine-rulemaking.shtml under Notice No. 116. You also may view copies of this notice, all supporting materials, and any comments TTB receives about this proposal by appointment at the TTB Information Resource Center, 1310 G Street, NW., Washington, DC 20220. Please call 202-453-2270 to make an appointment.

FOR FURTHER INFORMATION CONTACT: Jennifer Berry, Alcohol and Tobacco Tax and Trade Bureau, Regulations and Rulings Division, P.O. Box 18152, Roanoke, VA 24014; telephone 540-344-9333.

SUPPLEMENTARY INFORMATION:

Background

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Use of Grape Variety Names on Wine Labels

Part 4 of the TTB regulations (27 CFR part 4) sets forth the standards promulgated under the FAA Act for the labeling and advertising of wine. Section 4.23 of the TTB regulations (27 CFR 4.23) sets forth rules for varietal (grape type) labeling. Paragraph (a) of that section sets forth the general rule that the names of one or more grape varieties may be used as the type designation of a grape wine only if the wine is labeled with an appellation of origin as defined in § 4.25. Under paragraphs (b) and (c), a wine bottler may use the name of a single grape variety on a label as the type designation of a wine if not less than 75 percent of the wine (or 51 percent in certain limited circumstances) is derived from grapes of that variety grown in the labeled appellation of origin area. Under paragraph (d), a bottler may use two or more grape variety names as the type designation of a wine if all the grapes used to make the wine are of the labeled varieties and if the percentage of the wine derived from each grape variety is shown on the label (and with additional rules in the case of multicounty and multistate appellations of origin). Paragraph (e) of § 4.23 provides that only a grape variety name approved by the TTB Administrator may be used as a type designation for an American wine and states that a list of approved grape variety names appears in subpart J of part 4.

Within subpart J of part 4, the list of prime grape variety names and their synonyms approved for use as type designations for American wines appears in § 4.91 (27 CFR 4.91). Alternative grape variety names temporarily authorized for use are listed in § 4.92 (27 CFR 4.92). Finally, § 4.93 (27 CFR 4.93) sets forth rules for the approval of grape variety names.

Approval of New Grape Variety Names

Section 4.93 provides that any interested person may petition the Administrator for the approval of a grape variety name and that the petition should provide evidence of the following:

• That the new grape variety is accepted;

• That the name for identifying the grape variety is valid;

• That the variety is used or will be used in winemaking; and

• That the variety is grown and used in the United States.

Section 4.93 further provides that documentation submitted with the petition may include:

• A reference to the publication of the name of the variety in a scientific or professional journal of horticulture or a published report by a professional, scientific, or winegrowers' organization;

• A reference to a plant patent, if patented; and

• Information pertaining to the commercial potential of the variety, such as the acreage planted and its location or market studies.

Section 4.93 also places certain eligibility restrictions on the approval of grape variety names. TTB will not approve a name:

• If it has previously been used for a different grape variety;

• If it contains a term or name found to be misleading under § 4.39 (27 CFR 4.39); or

• If it contains the term “Riesling.”

Typically, if TTB determines that the evidence submitted with a petition supports approval of the new grape variety name, TTB will send a letter of approval to the petitioner advising the petitioner that TTB will propose to add the grape variety name to the list of approved grape variety names in § 4.91 at a later date. After one or more approvals have been issued, a notice of proposed rulemaking will be prepared for publication in the Federal Register proposing to add the name(s) to the § 4.91 list, with opportunity for public comment. In the event that one or more comments or other information demonstrate the inappropriateness of an approval action, TTB will determine not to add the grape variety name in question to the list and will advise the original petitioner that the name is no longer approved.

Since the last revision of the list in § 4.91, TTB has received and approved a number of petitions for new grape variety names. TTB is proposing in this notice to add a number of grape variety names to the list of names in § 4.91 to reflect those approvals. The evidence that the petitioners submitted in support of each name—and that formed the basis for the TTB approval—is summarized below. TTB is also requesting comments on three petitioned-for grape names that TTB did not approve by letter. The petitions for these names—Canaiolo Nero, Moscato Greco, and Princess—are also discussed below. In addition, TTB has received a petition requesting that two grape variety names currently listed in § 4.91 as separate varieties—Petite Sirah and Durif—be recognized as synonyms. TTB is requesting comments on this petition. This petition is discussed below under the listing “Petite Sirah,” as that name is more widely used in the United States than “Durif.”

Grape Name Petitions

Auxerrois

Adelsheim Vineyard, Newberg, Oregon, petitioned TTB to add “Auxerrois” to the list of approved grape variety names. Auxerrois is a white Vitis vinifera grape variety widely grown in the Alsace region of France. The petitioner submitted documentation showing that Oregon State University imported Auxerrois clones into the United States and had them released from quarantine in 1977. According to the petitioner, these clones were the source for the Auxerrois currently planted in Oregon and elsewhere in the United States. Adelsheim Vineyard reports having produced a varietal Auxerrois wine from its 2003 vintage. TTB is aware of at least one other winery producing a varietal Auxerrois wine. Some of the published references to Auxerrois note that the name is sometimes used in the Cahors region of France as a synonym for the Malbec variety, but the viticultural experts whom TTB consulted agreed that the name correctly applies only to the white variety described in the petition. Therefore, based on this evidence, TTB proposes to add Auxerrois to the list of grape variety names in § 4.91.

Biancolella

Avanguardia Wines LLC, Nevada City, California, petitioned TTB to add “Biancolella” to the list of approved grape variety names. A white Italian Vitis vinifera variety, Biancolella is grown on the islands of Ischia and Capri and in the Campania region on the southern Italian mainland. In Italy, it is an authorized component of Ischia Bianco Superiore (Denominazione di Origine Controllata (DOC), a category in Italy's wine designation system). The petitioner submitted published references to Biancolella and documented having obtained vines from Foundation Plant Services (FPS) at the University of California at Davis (UC Davis). The variety is available from FPS and at least one commercial nursery in California. Based on the evidence submitted by the petitioner, TTB proposes to add Biancolella to the list of grape variety names in § 4.91.

Black Monukka

Rotta Winery, Templeton, California, petitioned TTB to add “Black Monukka,” a black Vitis vinifera variety, to the list of approved grape variety names. Although the variety is usually used for table grapes or for raisins, the petitioner reported having produced a dessert wine from Black Monukka grapes since 2001. As evidence of the grape's acceptance and usage in California, the petitioner submitted two statistical tables issued by the California Department of Food and Agriculture. The first table, from the 2005 California Grape Crush Report, shows that 468.9 tons of Black Monukka grapes were crushed in California that year. The second table, from the 2005 California Grape Acreage Report, shows that 253 acres were planted to Black Monukka grapevines in California in 2004. Based on this evidence, TTB proposes to add Black Monukka to the list of grape variety names in § 4.91.

Blaufränkisch

Santa Lucia Winery, Inc., Templeton, California, petitioned TTB to add the name “Blaufränkisch” to § 4.91 as a synonym for the currently listed name “Limberger” and its synonym “Lemberger.” According to “The Oxford Companion to Wine” (Jancis Robinson, ed., Oxford University Press, 2d ed., 1999, p. 82), “Blaufränkisch is the Austrian name for the middle European black variety the Germans call Limberger and growers in Washington State call Lemberger.”

The petitioner submitted numerous published references to the name, “Blaufränkisch,” to demonstrate its validity and wide use among U.S. consumers. The references included copies of the 2000 and 2001 California Grape Crush Reports issued by the California Department of Food and Agriculture that listed the variety as Blaufränkisch, rather than as Lemberger or Limberger. The petitioner also submitted entries from the “Vitis International Variety Catalogue” and the “European Vitis Database,” which both list Blaufränkisch as the grape variety's prime name and list Limberger and Lemberger as synonyms.

The petitioner states that the name “Blaufränkisch” will be less misleading and more appealing to U.S. consumers than the already approved names “Limberger” and “Lemberger,” which, the petitioner contends, the consumer associates with “the infamous, offensive-smelling cheese.” TTB notes that even though one synonym for the grape variety has already been approved, the Winegrape Advisory Committee, the panel of experts whose report was the basis for the establishment of §§ 4.91-4.93, recommended adding up to two synonyms for each grape variety where appropriate. See Notice No. 749, 57 FR 40381, September 3, 1992. The evidence shows that “Blaufränkisch” is a valid name commonly used in the United States for this grape variety; hence, TTB believes the approval of the name is warranted, but welcomes comments on the issue. Based on the submitted evidence, TTB proposes to add Blaufränkisch to the list of grape variety names in § 4.91 as a synonym to Limberger and Lemberger.

Brianna

Acquaviva Winery, Batavia, Illinois, petitioned TTB to add “Brianna” to the list of approved grape variety names. Brianna is a white hybrid grape variety developed by grape breeder Elmer Swenson. According to the petitioner it planted 429 Brianna vines in 2006 and produced wine from Brianna grapes in 2008. According to the petition, this grape variety is available from commercial nurseries in New York and Minnesota, and is widely planted across the Upper Midwest. The petitioner notes that wineries in Nebraska and Iowa are producing wine made from Brianna grapes. The Web sites of the University of South Dakota, Iowa State University, and the University of Nebraska-Lincoln describe the Brianna grape variety as growing well in their respective States. Based on this evidence, TTB proposes to add Brianna to the list of grape variety names in § 4.91.

Cabernet Diane

Lucian Dressel of Davis Viticultural Research, Carrollton, Illinois, petitioned TTB to add “Cabernet Diane” to the list of approved grape variety names. Cabernet Diane is a red variety bred by the petitioner from a cross of Cabernet Sauvignon and Norton made in 2000. Although Cabernet Diane has the same parentage as Crimson Cabernet (see below), the petition states that the variety ripens later than Crimson Cabernet and that its wine is darker and more intense. The petitioner has applied for a patent for Cabernet Diane. According to the petitioner, 7 growers in 6 States grow about 16 acres of the variety and the Mary Michelle Winery of Carrollton, Illinois, has made wine from Cabernet Diane since 2006. Based on this evidence, TTB proposes to add Cabernet Diane to the list of grape variety names in § 4.91.

Cabernet Doré

Lucian Dressel of Davis Viticultural Research, Carrollton, Illinois, also petitioned TTB to add “Cabernet Doré” to the list of approved grape variety names. Cabernet Doré is a white variety bred by the petitioner from a cross of Cabernet Sauvignon and Norton made in 2000. The petitioner has applied for a patent for Cabernet Doré and also has trademarked the name. According to the petitioner, 5 growers in 5 States grow about 18 acres of the variety and the Mary Michelle Winery has made wine from Cabernet Doré grapes since 2006. Based on this evidence, TTB proposes to add Cabernet Doré to the list of grape variety names in § 4.91.

Canaiolo/Canaiolo Nero

Acorn Winery, Healdsburg, California, petitioned TTB to add “Canaiolo” and its synonym, “Canaiolo Nero,” to the list of approved grape variety names. Canaiolo is a black Vitis vinifera grape variety with origins in central Italy. In Italy, it is an authorized component of Chianti (DOC) and Vino Nobile di Montepulciano (DOC).

According to the petitioner, Canaiolo has been grown in California for years, albeit on a small scale. Acorn Winery has grown Canaiolo since 1992 from budwood obtained from the National Germplasm Repository, located at the University of California in Davis. The winery has made wine from this variety and has blended it into Sangiovese, as is generally done in Italy. The petitioner notes that other California growers of Sangiovese have contacted Acorn Winery and requested Canaiolo budwood.

The petitioner claims that both proposed names, “Canaiolo” and “Canaiolo Nero,” are widely used in Italy and elsewhere. To support this claim, the petitioner submitted several published references to the variety that use both names. Additionally, the petitioner noted that both names have appeared on labels of Italian wines sold in the United States. TTB approved the name “Canaiolo” by letter, but did not approve “Canaiolo Nero” because there was not as much evidence for that form of the name. However, TTB welcomes comments on whether “Canaiolo Nero” should also be approved for use on American wine labels. Because the evidence submitted shows that both names are used by and are known to U.S. consumers, TTB proposes to add Canaiolo and its synonym, Canaiolo Nero, to the list of grape variety names in § 4.91.

Carignan

David Coffaro Winery, Geyserville, California, petitioned TTB to add the name “Carignan” to the list of approved grape variety names as a synonym for the currently approved grape variety name “Carignane.” This red Vitis vinifera variety is widely planted in Southern France under the name “Carignan,” but when it was brought to California the name acquired a final “e.” The petitioner submitted several published references that refer to this variety by the name “Carignan” and indicated that the grape is called Carignane in California. The evidence shows that the name “Carignan” is a valid, widely used name for this grape variety; hence, TTB proposes to add Carignan to the list of grape variety names in § 4.91.

Corot noir

Dr. Bruce Reisch, Professor, Department of Horticultural Sciences, New York State Agricultural Experiment Station, Cornell University, petitioned TTB to add “Corot noir” to the list of approved grape variety names. Corot noir is a red hybrid variety developed at Cornell from a cross between Seyve Villard 18-307 grapes and Steuben grapes. According to a Cornell University bulletin, this variety is moderately winter hardy and produces wines free of the hybrid aromas typical of many other red hybrids. Corot noir vines are currently available at commercial vineyards, and virus-tested cuttings may be obtained from FPS, UC Davis. In addition, TTB is aware of wineries in New York and Virginia making wine from Corot noir. Based on the above evidence, TTB proposes to add Corot noir to the list of grape variety names in § 4.91.

Crimson Cabernet

Lucian Dressel of Davis Viticultural Research, Carrollton, Illinois, petitioned TTB to add “Crimson Cabernet” to the list of approved grape variety names. Crimson Cabernet is a red variety bred by the petitioner from a cross of Cabernet Sauvignon and Norton made in 2000. Although Crimson Cabernet has the same parentage as Cabernet Diane (see above), the petition states that the variety ripens earlier than Cabernet Diane and its wine is lighter in color and less intense. The petitioner has applied for a patent for Crimson Cabernet and has trademarked the name. According to the petitioner, 16 growers in 11 States grow about 33 acres of the variety, and the Mary Michelle Winery, Carrollton, Illinois, has made wine from Crimson Cabernet since 2006. Based on this evidence, TTB proposes to add Crimson Cabernet to the list of grape variety names in § 4.91.

Erbaluce

Avanguardia Wines, Nevada City, California, petitioned TTB to add “Erbaluce” to the list of approved grape variety names. Erbaluce is a white Vitis vinifera variety grown in the Piedmont region of northwestern Italy. In Italy, it is authorized for use in a single varietal Erbaluce (DOC). The petitioner submitted published references to Erbaluce and documented having obtained Erbaluce vines from FPS, UC Davis. The variety is available from FPS and at least one commercial nursery in California. Based on the petitioner's evidence, TTB proposes to add Erbaluce to the list of grape variety names in § 4.91.

Favorite

Chateau Z Vineyard, Monroe, Virginia, petitioned TTB to add “Favorite” to the list of approved grape variety names. Favorite, a hybrid red wine variety, was developed in Texas by John Niederauer around 1938. The National Germplasm Repository, located at the University of California in Davis, maintains this variety in its collection. According to evidence submitted by the petitioner, the variety is currently grown and used for winemaking in South Carolina and Texas. The winery states that it grows Favorite and produced wine from it in 2007. Based on the petition evidence, TTB proposes to add Favorite to the list of grape variety names in § 4.91.

Forastera

Avanguardia Wines petitioned TTB to add “Forastera” to the list of approved grape variety names. Forastera is a white Vitis vinifera variety indigenous to the island of Ischia, near Naples, Italy. In Italy, it is one of the authorized varieties for use in Ischia Bianco Superiore (DOC). The petitioner has made wine from Forastera grapes grown on vines obtained from FPS, UC Davis. The variety is available from FPS and at least one commercial nursery in California. Based on the petitioner's evidence, TTB proposes to add Forastera to the list of grape variety names in § 4.91.

Freedom

Capello Winery, Manteca, California, petitioned TTB to add “Freedom” to the list of approved grape variety names. The most common commercial use of the Freedom variety is as a rootstock. Other grape varieties are grafted onto its roots because of its resistance to grape pests, specifically phylloxera and rootknot nematodes. Freedom was introduced in 1974 from a cross of the 1613 and Dodge Ridge grape varieties. The petitioner notes that while a rootstock variety doesn't usually produce grapes, Capello Winery harvested 162 tons of Freedom grapes on 100 acres for the vintage year 2001. The winery fermented these grapes into 35,000 gallons of red wine and bottled almost 15,000 cases of wine. As evidence of the grape's acceptance and name validity, the petitioner submitted four research articles published by UC Davis referencing the Freedom variety. Freedom and its use as a rootstock are also mentioned in the “Oxford Companion to Wine” (Robinson, p. 595). According to the VIVC, 13 viticultural institutions in 9 countries are holding Freedom in their collections. Freedom is a recognized variety, and the petitioner has produced Freedom wine; consequently, TTB proposes to add Freedom to the list of grape variety names in § 4.91.

Frontenac

Peter Hemstad, research viticulturalist at the University of Minnesota, petitioned TTB to add “Frontenac” to the list of approved grape variety names. Frontenac, a red variety developed by the university's grape breeding program, is from a cross of the Vitis riparia # 89 variety and the Landot # 4511 variety. According to the petitioner, the variety is very cold hardy, productive, disease resistant, and thus suitable for cold climates. The petitioner states that Frontenac has been extensively planted throughout the upper Midwest, noting that a 2000 census conducted by the Minnesota Grape Growers Association found over 10,000 Frontenac vines growing in Minnesota. Included with the petition were letters from growers and wineries in Minnesota, Iowa, and Indiana that were successful in growing and using the Frontenac grape for winemaking. The variety is also widely available for sale at commercial vineyards. Based on the above evidence, TTB proposes to add Frontenac to the list of grape variety names in § 4.91.

Frontenac gris

Peter Hemstad of the University of Minnesota also petitioned TTB to add “Frontenac gris” to the list of approved grape variety names. A naturally occurring gray mutation of the Frontenac variety described above, Frontenac gris was found growing in the university's experimental vineyard in 1992. Although it is a new variety, the petitioner notes that 11 nurseries in 6 States are licensed to propagate Frontenac gris, and sales of 18,336 vines were reported in 2005. Two Minnesota vineyards that wrote to TTB in support of the petition reported having successfully grown the Frontenac gris variety and attested that some commercial wineries are bottling wine made from the Frontenac gris variety. Based on the above evidence, TTB proposes to add Frontenac gris to the list of grape variety names in § 4.91.

Garnacha

Bokisch Vineyards and Winery, Victor, California, petitioned TTB to add “Garnacha” to the list of approved grape variety names as a synonym for the currently listed name “Grenache.” According to “The Oxford Companion to Wine” (Robinson, p. 300), “Garnacha is the Spanish, and therefore original, name for the grape known in France and elsewhere as Grenache.” The petitioners state that the U.S. wine industry has accepted and has used the name Garnacha. The National Grape Registry maintained by UC Davis lists Garnacha as a common synonym for the Grenache noir grape. TTB also received a petition for the name “Grenache noir” (see discussion below). Based on the submitted evidence, TTB proposes to add the name Garnacha to the list of grape variety names in § 4.91 to be identified with its synonyms, Grenache and Grenache noir.

Garnacha blanca

Bokisch Vineyards and Winery petitioned TTB to add “Garnacha blanca” to the list of approved grape variety names. Garnacha blanca, a white Vitis vinifera grape, originated in Spain. TTB also received a petition for “Grenache blanc,” the French name for this grape (see discussion below). The petitioner submitted a number of published references to Garnacha blanca, and stated that it and several other California wineries are producing wine from the variety. At the time of the petition, the winery planned to bottle 100 gallons of wine labeled as Garnacha blanca. Based on the submitted evidence, TTB proposes to add the name Garnacha blanca to the list of grape variety names in § 4.91 to be identified with its synonym Grenache blanc.

Geneva Red 7

Stone House Vineyard, Mooers, New York, petitioned TTB to add “Geneva Red 7” to the list of approved grape variety names. Geneva Red 7 is a red hybrid grape variety developed by Cornell University. According to a Cornell University bulletin, this variety is highly productive and very winter hardy. The variety is listed on UC Davis's National Grape Registry and is commercially available from at least three nurseries. Geneva Red 7 is also known by the name “GR 7,” which is listed as the grape variety's prime name in the National Grape Registry. TTB is not proposing to add the name “GR 7” to its list of approved grape variety names because TTB does not believe consumers would recognize that name as a grape variety name. However, TTB welcomes comments on this issue. Based on the above evidence, TTB proposes to add Geneva Red 7 to the list of grape variety names in § 4.91.

Graciano

Bokisch Vineyards and Winery petitioned TTB to add “Graciano” to the list of approved grape variety names. Graciano is a black Vitis vinifera variety thought to have originated in the Rioja region of Spain. The petitioner, who submitted a number of published references to the variety, states that it and at least three other California wineries are making wine from Graciano grapes. Also, TTB is aware of a Virginia winery producing wine from Graciano grapes. Based on the above evidence, TTB proposes to add Graciano to the list of grape variety names in § 4.91.

Grenache blanc

Tablas Creek Vineyard, Paso Robles, California, petitioned TTB to add “Grenache blanc” to the list of approved grape variety names. Grenache blanc, a white Vitis vinifera grape variety, originated in Spain, but is commonly associated with the Rhône Valley of France. TTB also received a petition for “Garnacha blanca,” the Spanish name for this grape variety (see discussion above). A red version of the grape variety is already listed in § 4.91 as “Grenache.” The petitioner submitted numerous published references to books, periodicals, and Internet sites to establish the acceptance and validity of Grenache blanc. Tablas Creek Vineyard imported Grenache blanc into the New York State Agricultural Experiment Station, Geneva, New York, in 1992. After indexing, the variety was declared virus free and shipped bare root to the petitioner in February 1995. Tablas Creek Vineyard started planting Grenache blanc in 1996, and by the time of the petition had planted 4.73 acres of the variety. The petitioner reports the vineyard has supplied Grenache blanc vines and budwood to four other California growers, including the development vineyard at UC Davis. Based on the evidence presented by the petitioner, TTB proposes to add Grenache blanc to the list of grape variety names in § 4.91 to be identified with its synonym Garnacha blanca.

Grenache Noir

The Wine Institute, a trade association of California wineries, petitioned TTB to add the name “Grenache noir” to the list of approved grape variety names as a synonym for the currently listed “Grenache.” The petitioner submitted numerous published references to the name Grenache noir, many of them using the name interchangeably with Grenache. Those references included nursery catalogs, wine reference books, and the California Grape Crush Report. FPS, UC Davis, identifies the variety as Grenache noir in its list of registered grape selections. The National Grape Registry maintained by UC Davis lists Grenache noir as the variety's prime name and lists Garnacha and Grenache as common synonyms. If Grenache noir and Garnacha (see above) are approved, three names for one variety will appear in § 4.91. TTB believes that the evidence warrants the approval of Grenache noir and Garnacha, but TTB welcomes comments on the issue. Based on the above evidence, TTB proposes to add the name “Grenache noir” to the list of grape variety names in § 4.91 to be identified with its synonyms “Grenacha” and “Grenache.”

Grüner Veltliner

Reustle Vineyards & Winery LLC, Umpqua, Oregon, petitioned TTB to add “Grüner Veltliner” to the list of approved grape variety names. Grüner Veltliner is a well-documented, white Vitis vinifera variety. Although the most widely grown grape in Austria, it is relatively new to the United States. The petitioner, who produced 70 cases of Grüner Veltliner wine in vintage year 2005, states that other wineries in Oregon and Washington are also growing the variety. Grüner Veltliner vines are available from a number of commercial vineyards in the United States. Based on the above evidence, TTB proposes to add Grüner Veltliner to the list of grape variety names in § 4.91.

Interlaken

Sue Gorton, Cougar Creek Wine, Fall City, Washington, petitioned TTB to add “Interlaken” to the list of approved grape variety names. Interlaken, a white hybrid grape variety, is most often used for table grapes or for raisins, but is sometimes used to produce a white wine. The petitioner submitted a number of references to the variety from academic and nursery Web sites as evidence of the name's acceptance and validity. She also noted that, prior to the establishment of her winery, her Interlaken wine won the Best of Show award for homemade wines at the Evergreen State Fair in Monroe, Washington. The above evidence satisfies the provisions of § 4.93, and TTB proposes to add Interlaken to the list of grape variety names in § 4.91.

La Crescent

Peter Hemstad of the University of Minnesota petitioned TTB to add the name “La Crescent” to the list of approved grape variety names. La Crescent is a white hybrid variety that the university's grape breeding program developed. According to the petitioner, 12 nurseries in 6 States are licensed to propagate the variety. He further reports that 22,678 vines were sold in 2005, or enough for about 35 acres. Two Minnesota vineyards wrote to TTB in support of the petition, claiming to have successfully grown La Crescent grapes and attesting that some commercial wineries are bottling wine made from the variety. Based on this evidence, TTB proposes to add La Crescent to the list of grape variety names in § 4.91.

Lagrein

Piedra Creek Winery, San Luis Obispo, California, petitioned TTB to add “Lagrein” to the list of approved grape variety names. Lagrein is a red Vitis vinifera variety that originated in Italy. As evidence of the variety's acceptance and use in California, the petitioner submitted a table from the 2003 Final Grape Crush Report issued by the California Department of Food and Agriculture. The table, entitled “Tons of Grapes Crushed by California Processors,” shows that 314.1 tons of Lagrein grapes were crushed in California that year. Lagrein vines may be obtained from FPS at UC Davis and from commercial nurseries. Based on this evidence, TTB proposes to add Lagrein to the list of grape variety names in § 4.91.

Louise Swenson

The Minnesota Grape Growers Association petitioned TTB to add “Louise Swenson,” a white hybrid grape variety, to the list of approved grape variety names. This grape, developed by Elmer Swenson, is a cross between E.S. 2-3-17 grapes and Kay Gray grapes. Like other grapes that Mr. Swenson developed, this variety was bred to withstand the harsh winters of the upper Midwest. The petitioner submitted evidence that the variety shows little or no winter injury even in temperatures reaching minus 40 degrees Fahrenheit. The petitioner further states that Louise Swenson is grown in several upper Midwestern States and in New York. Included with the petition were letters from four Minnesota growers and wineries claiming to have successfully grown and/or used Louise Swenson grapes for winemaking. Based on the above evidence, TTB proposes to add Louise Swenson to the list of grape variety names in § 4.91.

Lucie Kuhlmann

Chateau Z Vineyard, Monroe, Virginia, petitioned TTB to add “Lucie Kuhlmann” to the list of approved grape variety names. Lucie Kuhlmann, a French red wine hybrid, was bred by Eugene Kuhlmann in Alsace in the early 20th century. The National Germplasm Repository, located in Geneva, New York, maintains this variety in its collection and distributes cuttings. The petitioner, a grower of Lucie Kuhlmann, reports producing wine from the variety in 2006 and 2007. According to evidence submitted by the petitioner, the variety is also grown and used for winemaking in Colorado. Although a majority of reference sources use the name “Lucie Kuhlmann” for this variety, one source (USDA, ARS, National Genetic Resources Program) identifies it by the name “Kuhlmann 149-3.” TTB is not proposing to include Kuhlmann 149-3 in the list of grape variety names because it believes that Lucie Kuhlmann is used more frequently; however, TTB welcomes comments on this issue. Based on the above, TTB proposes to add Lucie Kuhlmann to the list of grape variety names in § 4.91.

Mammolo

Acorn Winery, Healdsburg, California, petitioned TTB to add “Mammolo” to the list of approved grape variety names. Mammolo is a red Vitis vinifera grape variety that has long been grown in central Italy. In Italy, it is an authorized component of Chianti (DOC). According to the petitioner, Mammolo has been grown for decades in California, though on a small scale. Acorn Winery has grown Mammolo since 1992 from budwood obtained from the National Germplasm Repository, located at the University of California in Davis. The winery has made wine from that variety and blended it with its Sangiovese wine, as is generally done in Italy. The petitioner notes that other California growers of Sangiovese have contacted Acorn Winery and requested Mammolo budwood. Based on the above evidence, TTB proposes to add Mammolo to the list of grape variety names in § 4.91.

The petitioner also requested the approval of the synonym “Mammolo Toscano.” Toscano refers to the Tuscany region of Italy where the variety is commonly grown. Based on the submitted evidence, TTB does not believe that Mammolo Toscano is in common enough usage to warrant its approval for the designation of American wines, but TTB welcomes comments on the issue.

Marquette

Peter Hemstad of the University of Minnesota petitioned TTB to add the name “Marquette” to the list of approved grape variety names. Marquette, a red hybrid developed by the University of Minnesota grape breeding program, was introduced in 2006 and has been granted Patent # 19579. According to the petitioner, 12 nurseries in 5 States are licensed to propagate the variety. He further reports that 125,776 vines were sold in 2006-8, or enough for roughly 193 acres of vine plantings. Based on this evidence, TTB proposes to add Marquette to the list of grape variety names in § 4.91.

Monastrell

Bokisch Vineyards and Winery, Victor, California, petitioned TTB to add “Monastrell” to the list of approved grape variety names as a synonym for the currently listed names “Mourvèdre” and “Mataro.” The petitioner submitted a number of published references that note that Monastrell is the Spanish name for this grape variety. The variety, in fact, originated in Spain where it is the second-most-planted red grape. The National Grape Registry maintained by UC Davis lists Monastrell as the variety's prime name and lists Mourvèdre and Mataro as common synonyms. At the time of the petition, the petitioner stated it planned to bottle 120 gallons of 2007 and 2008 Monastrell wine. If Monastrell is approved, three names for this variety will appear in § 4.91. TTB believes that the evidence warrants the approval of Monastrell, but TTB welcomes comments on the issue. Based on the above evidence, TTB proposes to add Monastrell to the list of grape variety names in § 4.91, to be identified with its synonyms Mourvèdre and Mataro.

Montepulciano

Avanguardia Wines petitioned TTB to add “Montepulciano” to the list of approved grape variety names. Montepulciano is a red Vitis vinifera variety widely planted in the Abruzzi region of Italy. The petitioner submitted published references to the Montepulciano grape and documented having obtained the vines of that grape from FPS, UC Davis. The variety is also available from at least three commercial nurseries in California. The petitioner reports having made wine from Montepulciano grapes and having blended it with Sangiovese wine. Based on the above evidence, TTB proposes to add Montepulciano to the list of grape variety names in § 4.91.

Moscato greco

Edna Valley Vineyard, San Luis Obispo, California, petitioned TTB to add the name “Moscato greco” to the list of approved grape variety names as a synonym for the currently listed “Malvasia bianca” variety. As evidence, the petitioner submitted a letter in which Dr. Carole Meredith of the Viticulture and Enology Department at UC Davis discusses DNA research into the identity of Malvasia bianca grown in California. According to Dr. Meredith, it has been known for years that the Malvasia bianca grown in California is not the same as the most common types of Malvasia bianca grown in Italy. The DNA profile of Malvasia bianca vines from both FPS and a large commercial California vineyard was analyzed by UC Davis. The DNA profile of all the analyzed vines matched that of Moscato greco, a rare, Muscat-flavored variety from the Piedmont region of Italy. That grape, which according to Dr. Meredith has no official correct name in Italy, is also commonly called Malvasia greca and Malvasia bianca di Piemonte. Dr. Meredith stated that the variety had a definite muscat taste.

TTB contacted Dr. Meredith directly about this letter and asked if Moscato greco and Malvasia bianca can accurately be called synonyms. She stated that the names are not synonymous in Italy because there the name “Malvasia bianca” is used for several different varieties. However, the DNA evidence from California vines indicates that California Malvasia bianca is indeed Moscato greco. For this reason, Dr. Meredith stated it is accurate to consider them synonymous when applied to California grapes; however, the name “Moscato greco” could be considered a more specific name that will better identify Muscat grapes for the consumer. She stated that the name “Malvasia bianca” should be retained because it has long been used in California to identify this variety. In her opinion, winemakers should therefore have the option of using either name.

TTB did not approve this petition by letter, believing that this was an issue warranting public comment. TTB is therefore requesting comments on whether Moscato greco should be listed as a synonym for Malvasia bianca because of the long usage of the latter name in California, or if the Malvasia bianca should be changed to “California Malvasia bianca.” TTB is also requesting comments on whether, alternatively, Moscato greco should be listed as a separate variety.

Negrara

Avanguardia Wines petitioned TTB to add the name “Negrara” to the list of approved grape variety names. Negrara is a red Vitis vinifera variety from the Veneto region of Italy. In Italy, it is one of the authorized components for use in Valpolicella (DOC). The petitioner submitted published references to Negrara and documented having obtained the vines for Negrara from FPS, UC Davis. The petitioner reports making wine from Negrara grapes and blending it with Sangiovese wine. Based on the petitioner's evidence, TTB proposes to add Negrara to the list of grape variety names in § 4.91.

Negro Amaro

Chiarito Vineyard, Ukiah, California, petitioned TTB to add “Negro Amaro” to the list of approved grape variety names. Negro Amaro is a red Vitis vinifera variety that originated in the Apulia region of Italy. To support the grape's consumer acceptance and use in California, the petitioner submitted a table from the Final Grape Crush Report for 2003 issued by the California Department of Food and Agriculture. The table shows that 0.6 and 2.4 tons of Negro Amaro grapes were crushed in the State in 2003 and 2002, respectively. The petitioner also submitted letters from two viticultural experts attesting that the vines from which Chiarito Vineyard obtained its Negro Amaro grapes have been determined to be true to type. In addition, the petitioner submitted evidence that at least two other California wineries are making wine from Negro Amaro grapes. Based on the petitioner's evidence, TTB proposes to add Negro Amaro to the list of grape variety names in § 4.91.

Nero d'Avola

Chiarito Vineyard also petitioned TTB to add “Nero d'Avola” to the list of approved grape variety names. Nero d'Avola is a red Vitis vinifera variety originally from Sicily, now also grown in California. As part of the petition, the petitioner submitted letters from two viticultural experts attesting that they have determined that the vines from which Chiarito Vineyard obtained its grapes are true to type. In addition, the petitioner submitted evidence that at least two other California wineries are making wine from Nero d'Avola grapes. Based on the above evidence, TTB proposes to add Nero d'Avola to the list of grape variety names in § 4.91.

Noiret

Dr. Bruce Reisch, Professor, Department of Horticultural Sciences, New York State Agricultural Experiment Station, Cornell University, petitioned to add “Noiret,” a red hybrid variety, to the list of approved grape variety names. The Noiret variety was developed at Cornell from a cross made in 1973 between NY65.0467.08 (NY33277 x Chancellor) grapes and Steuben grapes. According to a Cornell bulletin, this variety is moderately winter hardy, and produces wines that have good tannin structure and that are free of the hybrid aromas typical of many other red hybrid grapes. Noiret vines are currently available at commercial vineyards, and virus-tested cuttings may be obtained from FPS, UC Davis. In addition, the petitioner stated that wineries in New York, Pennsylvania, Indiana, and elsewhere are making varietal wines from Noiret grapes. Based on the above evidence, TTB proposes to add Noiret to the list of grape variety names in § 4.91.

Peloursin

The David Coffaro Winery petitioned TTB to add “Peloursin” to the list of approved grape variety names. Peloursin is a red Vitis vinifera variety of French origin that has long been grown in California, though often misidentified as Petite Sirah. In a study conducted by UC Davis in the 1990's, DNA analysis of commercial vineyards in California found that some vines labeled as “Petite Sirah” were in fact the Peloursin grape variety. (See “The Identity and Parentage of the Variety Known in California as Petite Sirah,” by Carole P. Meredith, John E. Bowers, Summaira Riaz, Vanessa Handley, Elizabeth B. Bandman, and Gerald S. Dangl, Department of Viticulture and Enology, University of California, Davis, American Journal of Enology and Viticulture, vol. 50, no. 3, 1999.) Using the same DNA analysis, UC Davis identified grapevines from the petitioner's vineyard as Peloursin. The petitioner reported having produced several wines from Peloursin grapes, and would like to label his wine with the Peloursin name. Based on the petitioner's evidence, TTB proposes to add Peloursin to the list of grape variety names in § 4.91.

Petit Bouschet

Acorn Winery, Healdsburg, California, petitioned TTB to add “Petit Bouschet” to the list of approved grape variety names. Petit Bouschet, a red Vitis vinifera variety, was created in France in 1824 by Louis Bouschet as a cross of Aramon grapes and Teinturier du Cher grapes. The petition included several pieces of evidence showing international acceptance of this grape and its name. According to historical references that the petitioner cited, the Petit Bouschet variety has been grown in California since the 1880's. George Husmann, influential in California's early winegrape industry, wrote in 1895 that Petit Bouschet was “especially cultivated [in California] because it contains a great amount of color and tannin, which makes it valuable for blending” (“American Grape Growing and Winemaking,” 1921, p. 201). The petitioner states that Petit Bouschet's popularity was eclipsed by its progeny, Alicante Bouschet, produced in 1865 as a cross of Petit Bouschet grapes and Grenache grapes. When Alicante Bouschet became available in California and demand exceeded supply, nurseries sold it mixed with Petit Bouschet. As a result, California Petit Bouschet is often found in vineyards mixed with Alicante Bouschet vines. The petitioner states that while Petit Bouschet is not usually bottled as a varietal wine, it continues to be blended into many California wines. Petit Bouschet vines are also available at FPS, UC Davis, and at commercial vineyards. Based on the petitioner's evidence, TTB proposes to add Petit Bouschet to the list of grape variety names in § 4.91.

Petit Manseng

Chrysalis Vineyards, Middleburg, Virginia, petitioned TTB to add “Petit Manseng,” a white Vitis vinifera grape with origins in southwestern France, to the list of approved grape variety names. As evidence of the acceptance of this grape and its name, the petitioner submitted numerous published references to the Petit Manseng grape variety. The petitioner also submitted letters from two professors at Virginia Polytechnic Institute and State University, attesting that Petit Manseng is grown in Virginia. In 1998, Chrysalis Vineyards planted Petit Manseng cuttings obtained from a commercial nursery in New York and has since bottled and sold wine made from these grapes. The petitioner reports having received numerous requests for Petit Manseng cuttings from growers in Virginia and other States. Based on the petitioner's submitted evidence, TTB proposes to add Petit Manseng to the list of grape variety names in § 4.91.

Petite Sirah (Durif)

P.S. I Love You, Inc. (PSILY), a self-described Petite Sirah advocacy organization based in California, petitioned TTB to recognize the grape variety names “Petite Sirah” and “Durif” as synonyms. Both names are currently listed in § 4.91 as separate grape varieties.

As evidence that the two names refer to the same grape, the petitioner submitted an article concerning DNA research on California Petite Sirah vines conducted by Dr. Carole Meredith and others (“The Identity and Parentage of the Variety Known in California as Petite Sirah,” Meredith et al.). After comparing California Petite Sirah plants to French Durif plants, Dr. Meredith concluded that the majority of vines labeled “Petite Sirah” were genetically identical to Durif. DNA marker analysis of 13 Petite Sirah vines from the UC Davis private collection identified 9 of the vines as Durif. DNA testing of 53 commercial Petite Sirah vines from 26 private vineyards identified 49 of these vines as Durif. The testing found the remaining vines to be Peloursin (see above), Syrah, or Pinot Noir. Dr. Meredith attributed the misidentification of those three grape vines to decades-old labeling and planting errors. PSILY also submitted a June 3, 2009, letter from Dr. Meredith supporting its current petition.

To demonstrate that this scientific research is widely accepted, the petitioner cited a number of nurseries that use the names Petite Sirah and Durif synonymously. The petitioner also noted that two wine-related Web sites, Professional Friends of Wine (http://www.winepros.org) and Appellation America (http://wine.appellationamerica.com), refer to the two names as synonyms. The National Grape Registry maintained by UC Davis also lists Petite Sirah and Durif as synonyms.

The petitioner also included a letter from Dr. Deborah Golino, Director of Foundation Plant Services (FPS), UC Davis, regarding FPS' naming conventions for Petite Sirah. Because of historical confusion about the use of the name “Petite Sirah,” FPS uses the name “Durif” to identify and distinguish Petite Sirah/Durif vines from Peloursin vines that were earlier mistakenly labeled “Petite Sirah.” Because § 4.91 currently does not recognize Petite Sirah and Durif as synonyms, vineyards purchasing vines labeled as “Durif” from FPS are unable to market them as “Petite Sirah,” the name more widely recognized in the United States.

TTB's predecessor agency, the Bureau of Alcohol, Tobacco and Firearms (ATF), previously proposed recognizing Petite Sirah and Durif as synonyms in Notice No. 941 published in the Federal Register (67 FR 17312) on April 10, 2002. In support of this proposal, Notice No. 941 cited Dr. Carole Meredith's DNA research, discussed above. In Notice No. 941, ATF also proposed to recognize the names “Zinfandel” and “Primitivo” as synonyms, also based on Dr. Meredith's research.

ATF received one supporting comment and one neutral comment in response to the Petite Sirah/Durif proposal in Notice No. 941. However, because of the length of time that has elapsed since publication of Notice No. 941, TTB has determined that further public comment on this proposal would be appropriate.

Based on the above-described evidence, TTB proposes to recognize Petite Sirah and Durif as synonymous names in § 4.91.

Piquepoul Blanc (Picpoul)

Tablas Creek Vineyards petitioned TTB to add “Piquepoul Blanc” and its synonym “Picpoul” to the list of approved grape variety names. Piquepoul Blanc is a white Vitis vinifera variety associated with the Rhône Valley of France. In France, it is one of the varieties authorized for use in Châteauneuf-du-Pape (Appellation d'origine contrôlée, (AOC), a category in France's wine designation system). As evidence of the grape's acceptance and name validity, the petitioner submitted numerous published references to the names “Piquepoul Blanc” and “Picpoul” from books, periodicals, and Internet sites. In 1995, Tablas Creek Vineyards imported Piquepoul Blanc vines into the New York State Agricultural Station, Geneva, New York. After indexing, the vines were declared virus free and shipped bare root to the petitioner in February 1998. In 2000, Tablas Creek started planting Piquepoul Blanc, and by the time of the petition had planted one-half acre of the variety. The petitioner reports having supplied Piquepoul Blanc budwood and vines to three other California growers, including the development vineyard at UC Davis. Based on the evidence that the petitioner presented and because both names are used extensively in the references that the petitioner submitted, TTB proposes to add both Piquepoul Blanc and Picpoul to the list of grape variety names in § 4.91.

Prairie Star

The Minnesota Grape Growers Association petitioned TTB to add “Prairie Star” to the list of approved grape variety names. Prairie Star, a white hybrid variety, was developed by Elmer Swenson as a cross between E.S. 2-7-13 grapes and E.S. 2-8-1 grapes. The petitioner provided evidence that the variety is very winter hardy and suffers little damage in all but the harshest winters (minus 40 degrees Fahrenheit and below). The petitioner further states that Prairie Star is grown in several upper Midwestern States and in New York. Additionally, letters from four Minnesota growers and wineries claiming success in growing and/or using Prairie Star in winemaking were included with the petition. Based on the above evidence, TTB proposes to add Prairie Star to the list of grape variety names in § 4.91.

Princess

Clayhouse Vineyard, Paso Robles, California, petitioned TTB to add “Princess” to the list of approved grape variety names. Princess is a white Vitis vinifera grape developed by the USDA Agricultural Research Service in Fresno, California. Although it was originally named “Melissa,” the name was changed to Princess because a grocery chain had previously trademarked the name Melissa. The variety is available from a number of commercial nurseries and, according to the 2007 California Grape Crush Report, 2,651.7 tons of Princess grapes were crushed in California in 2007. Although this grape is most frequently used as a table grape, the petitioner used it to produce about 1,875 gallons of wine in 2007.

Although TTB believes that the petition contains sufficient evidence under § 4.93 for us to approve the name “Princess,” TTB opted to propose adding the name to the list of grape variety names through rulemaking action rather than to approve it by letter due to potential conflicts with existing certificates of label approval (COLAs). An electronic search of TTB's COLAs online database for the word “Princess” produced 67 results, and TTB found five current COLAs that use the word “Princess” on a wine label as part of a fanciful name. These fanciful names are: “Brut Princess Cruises” on a domestic champagne; “Princess Foch” on a red wine; “Princess Peach” on a flavored wine; “Little Princess” on a white wine; and “The Princess” on a domestic champagne. These labels do not also contain grape varietal designations. The use of a grape variety name in a brand name may be misleading and prohibited under § 4.39. If the name Princess is approved as a grape varietal name, these labels may be misleading. Because of this potentially adverse impact on current labels, TTB believes that the label holders should be given an opportunity to comment on this proposal prior to any administrative action that would add the grape variety to the list of approved names in § 4.91.

Reliance

OOVVDA Winery in Springfield, Missouri, petitioned TTB to add “Reliance” to the list of approved grape variety names. Reliance, a cross of Ontario and Suffolk Red grapes, is a red grape developed at the University of Arkansas in 1984. The petitioner states that it made and sold Reliance wine in 2005 and 2006. According to UC Davis's National Grape Registry, this variety is commercially available at four nurseries in New York and Arkansas. Also, TTB is aware of at least one other winery selling a wine made from Reliance grapes. Based on this evidence, TTB proposes to add Reliance to the list of grape variety names in § 4.91.

Rondinella

Avanguardia Wines petitioned TTB to add “Rondinella” to the list of approved grape variety names. Rondinella is a red Vitis vinifera variety grown mainly in the Veneto region of Italy. In Italy, it is one of the varieties authorized for use in Valpolicella (DOC). The petitioner submitted published references to the Rondinella grape and documented having obtained Rondinella vines from FPS, UC Davis. The petitioner claims having made wine from Rondinella grapes. Based on the above evidence, TTB proposes to add Rondinella to the list of grape variety names in § 4.91.

Sabrevois

The Minnesota Grape Growers Association petitioned TTB to add “Sabrevois” to the list of approved grape variety names. A red hybrid variety, Sabrevois was developed by Elmer Swenson as a cross between E.S. 283 grapes and E.S. 193 grapes. The petitioner submitted evidence that the variety is very winter hardy and suffers little damage in all but the harshest winters (minus 31 degrees Fahrenheit). The petitioner further states that Sabrevois is grown in several upper Midwestern States and in New York. Letters from four Minnesota growers and wineries claiming success in growing and/or using Sabrevois in winemaking were included with the petition. Based on the above evidence, TTB proposes to add Sabrevois to the list of grape variety names in § 4.91.

Sagrantino

Witch Creek Winery, Carlsbad, California, petitioned TTB to add “Sagrantino” to the list of approved grape variety names. Sagrantino is a red Vitis vinifera grape from the Umbria region of Italy, where it is most prominently used in Sagrantino di Montefalco (DOC). However, a limited amount of Sagrantino is also grown in the U.S. Recent DNA testing by UC Davis found that a vine in the FPS collection originally labeled as “Sangiovese” is actually Sagrantino. In addition, the petitioner states that it and eight other U.S. wineries are growing and/or producing wine from Sagrantino. Based on the above evidence, TTB proposes to add Sagrantino to the list of grape variety names in § 4.91.

St. Pepin

The Minnesota Grape Growers Association petitioned TTB to add “St. Pepin” to the list of approved grape variety names. A white hybrid variety, St. Pepin was developed by Elmer Swenson as a cross between E.S. 114 grapes and Seyval grapes. The petitioner submitted evidence that the variety can withstand temperatures to minus 25 °F, and thus is suitable for use in many northern growing regions. The petitioner states that St. Pepin is grown in several upper Midwestern States and in New York. Letters from five growers and wineries from Minnesota and Iowa claiming success in growing and/or using St. Pepin in winemaking were included with the petition. Based on the above evidence, TTB proposes to add St. Pepin to the list of grape variety names in § 4.91.

St. Vincent

Lucian Dressel of Carrollton, Illinois, and Scott Toedebusch of Augusta, Missouri, submitted a petition to add “St. Vincent” to the list of approved grape variety names. St. Vincent is a red hybrid variety that originated in Missouri in the 1970s from what is believed to be a chance crossing in Mr. Dressel's vineyard in Augusta, Missouri. The petitioners note that St. Vincent is winter hardy and produces wine that resembles Pinot Noir, which they believe is one of its parents. The petitioners state that St. Vincent has become a standard grape in Missouri, and they submitted evidence showing that it is grown and used for winemaking in several Midwestern and Northeastern States. Based on this evidence, TTB proposes to add St. Vincent to the list of grape variety names in § 4.91.

Sauvignon gris

Chimney Rock Winery, Napa, California, petitioned TTB to add “Sauvignon gris” to the list of approved grape variety names. Sauvignon gris is a pink-skinned mutation of the Sauvignon blanc grape. The petitioner submitted a report from FPS, UC Davis, stating that two professors of viticulture have identified three selections of Sauvignon gris at FPS. The report also states that FPS has sold Sauvignon gris propagation materials to 13 commercial nurseries and vineyards. Based on the above evidence, TTB proposes to add Sauvignon gris to the list of grape variety names in § 4.91.

Valiant

Philip Favreau of Mooers, New York, petitioned TTB to add “Valiant” to the list of approved grape variety names. Valiant, a hybrid variety, was developed at South Dakota State University. A crossing of the Fredonia grape variety and the Wild Montana grape variety, it is reportedly cold hardy to temperatures of minus 70 degrees Fahrenheit. Valiant vines are available at commercial nurseries, and wineries in several Northern and Midwestern States are producing wine from the variety. Based on this evidence, TTB proposes to add Valiant to the list of grape variety names in § 4.91.

Valvin Muscat

Dr. Bruce Reisch, Professor, Department of Horticultural Sciences, New York State Agricultural Experiment Station, Cornell University, petitioned TTB to add “Valvin Muscat” to the list of approved grape variety names. Valvin Muscat, a white hybrid variety developed at Cornell University, resulted from a crossing made in 1962 between Couderc 299-35 grapes (known as “Muscat du Moulin”) and Muscat Ottonel grapes. A Cornell bulletin states that this variety is more winter hardy and disease resistant than muscat grapes that are pure Vitis vinifera. Valvin Muscat vines are currently available at commercial vineyards, and virus-tested cuttings are available at FPS, UC Davis. In addition, the petitioner stated that wineries in New York, Pennsylvania, Indiana, and elsewhere are making varietal wines from Valvin Muscat. Based on the above evidence, TTB proposes to add Valvin Muscat to the list of grape variety names in § 4.91.

Vergennes

Arbor Hill Grapery/Winery, Naples, New York, petitioned TTB to add “Vergennes” to the list of approved grape variety names. Vergennes, a Vitis labrusca grape variety, was developed in Vergennes, Vermont, in 1874. A red grape, it is used to produce a white wine. The petitioner documented that the variety has been grown commercially in New York for at least 100 years. In addition, the petitioner reports having made and sold Vergennes wine for 3 years with good consumer acceptance. Based on the petitioner's evidence, TTB proposes to add Vergennes to the list of grape variety names in § 4.91.

Vermentino

Santa Lucia Winery, Inc., petitioned TTB to add “Vermentino” to the list of approved grape variety names. Vermentino is a white Vitis vinifera grape commonly associated with Italy, particularly the island of Sardinia, and with the French island of Corsica. As evidence of the grape's consumer acceptance and name validity in the United States, the petitioner submitted numerous published references to Vermentino, including retailers' price lists, wine reviews, restaurant wine lists, magazine articles, and excerpts from wine reference books. As evidence of the grape's usage in California, the petitioners submitted a report published in 2002 by the Paso Robles Vintners and Growers Association stating that 1.77 acres of Vermentino was being grown in the Paso Robles area. Santa Lucia Winery planted its Vermentino in 1997 using vines purchased from Tablas Creek Vineyard, Paso Robles, and made wine from its first harvest in 2001. The petitioner included a letter from Tablas Creek Winery stating that three other California wineries purchased Vermentino vines from the winery between 2000 and 2002. Based on the above evidence, TTB proposes to add Vermentino to the list of grape variety names in § 4.91.

Wine King

Chateau Z Vineyard, Monroe, Virginia, petitioned TTB to add “Wine King” to the list of approved grape variety names. Wine King, a hybrid red wine variety, was developed in Texas in 1898 by Thomas Volnay Munson. The National Germplasm Repository located in Geneva, New York, maintains this variety in its collection and distributes cuttings. The petitioner, a grower of Wine King, reports producing wine from the variety in 2006 and 2007. The winery further states that it has shipped cuttings of the variety to three other wineries in Virginia and Kentucky. Based on the petition evidence, TTB proposes to add Wine King to the list of grape variety names in § 4.91.

Zinthiana

Lucian Dressel of Davis Viticultural Research, Carrollton, Illinois, petitioned TTB to add “Zinthiana” to the list of approved grape variety names. Zinthiana is a red variety bred by the petitioner from a cross of Zinfandel and Norton (Cynthiana) made in 2000. The petitioner has applied for a patent for Zinthiana and has trademarked the name. According to the petitioner, 5 growers in 5 States grow about 13 acres of the variety. The Mary Michelle Winery in Carrollton, Illinois, has made wine from Zinthiana since 2006. Two other wineries plan to make wine from the variety in 2009, according to the petitioner. Based on this evidence, TTB proposes to add Zinthiana to the list of grape variety names in § 4.91.

Zweigelt

Mokelumne Glen Vineyards, Lodi, California, petitioned TTB to add “Zweigelt” to the list of approved grape variety names. Zweigelt was developed in Austria in 1922 as a cross of St. Laurent and Blaufränkisch, and is now Austria's most widely planted red grape. The petitioner, who obtained its Zweigelt vines from a Virginia nursery, has grown the variety since 2001. The petitioner states it has sold wine made from the grape and plans to expand its use of it. The petitioner reports that a local nursery is presently sold out of Zweigelt vines and that other American vineyards are also growing the variety. Based on the above evidence, TTB proposes to add Zweigelt to the list of grape variety names in § 4.91.

Structure of Grape List

The § 4.91 list is currently structured as a list of prime grape names. Where a synonym is specified for a grape varietal, the synonym appears in parenthesis after the prime grape name. In most cases, the synonym does not have its own listing. For example, the name “Black Malvoisie” is only listed in § 4.91 as a synonym after the variety's prime name, “Cinsaut.” If the reader does not know that “Black Malvoisie” is a synonym for “Cinsaut,” the reader may have difficulty determining if “Black Malvoisie” is an approved grape variety name. TTB believes that the current structure poses challenges for the reader in identifying approved names. Moreover, it may suggest that synonyms are in some way not as valid as grape names as the prime names when, in fact, every name in § 4.91, whether a prime name or a synonym, is equally acceptable for use as a type designation on an American wine label.

Because no distinction should exist between prime names and synonyms for the purposes of labeling, TTB proposes to eliminate the word “prime” from the heading of § 4.91, as well as from the second sentence of the introductory text of that section, and list each synonym as if it were a prime name. As a result, § 4.91 would simply set forth a list of grape names that have been approved as type designations for American wines, followed, in parentheses, by the approved synonyms for that name.

Technical Correction

Finally, TTB has become aware of a technical error in § 4.91, that is, the grape variety name “Agawam” is currently misspelled as “Agwam.” TTB proposes to correct this error in this document. TTB also proposes to allow the use of the spelling “Agwam” for a period of one year after publication of a final rule so that anyone holding a COLA with the misspelling has sufficient time to obtain new labels. This allowance appears as a new paragraph (d) to proposed 27 CFR 4.92. If this proposal is adopted as a final rule, at the end of the one year period, holders of approved “Agwam” labels must discontinue their use as their certificates of label approval will be revoked by operation of the final rule (see 27 CFR 13.51 and 13.72(a)(2)). TTB believes the one year period will provide such label holders with adequate time to use up their supply of previously approved “Agwam” labels.

Public Participation

Comments Sought

TTB requests comments from members of the public, particularly any person whose use of an approved label might be impacted by final approval of the grape variety names that are the subject of this proposed rule, for example, label holders with brands that include any of these names, such as “Princess.” TTB is interested in comments that might bring into question whether an added grape name is accurate and appropriate for the designation of American wines. TTB is also interested in comments concerning the grape names discussed above that TTB did not approve by letter: Canaiolo Nero, Mammolo Toscano (as a synonym for Mammolo), Moscato Greco, and Princess, as well as TTB's proposal to recognize as synonyms two names currently on the list in § 4.91, Petit Sirah and Durif. TTB also invites comments on whether it is still necessary to distinguish between prime names and synonyms for purposes of grape variety names for American wine. Finally, TTB invites comment on any other issue raised by this notice of proposed rulemaking, including, but not limited to, the proposed technical correction of the grape variety name “Agawam” and the proposed one year use-up period from the publication of the final rule for any existing labels that use the name “Agwam”. Please support your comment with specific information about the grape varietal name in question, as appropriate.

Submitting Comments

You may submit comments on this notice by using one of the following three methods:

• Federal e-Rulemaking Portal: You may send comments via the online comment form linked to this notice in Docket No. TTB-2011-0002 on “Regulations.gov,” the Federal e-rulemaking portal, at http://www.regulations.gov. A link to the docket is available under Notice No. 116 on the TTB Web site at http://www.ttb.gov/wine/wine-rulemaking.shtml. Supplemental files may be attached to comments submitted via Regulations.gov. For information on how to use Regulations.gov, click on the site's Help or FAQ tabs.

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200E, Washington, DC 20005.

Please submit your comments by the closing date shown above in this notice. Your comments must reference Notice No. 116 and include your name and mailing address. Your comments also must be made in English, be legible, and be written in language acceptable for public disclosure. TTB does not acknowledge receipt of comments and considers all comments as originals.

If you are commenting on behalf of an association, business, or other entity, your comment must include the entity's name as well as your name and position title. If you comment via Regulations.gov, please include the entity's name in the “Organization” blank of the comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or that is inappropriate for public disclosure.

Public Disclosure

On the Federal e-rulemaking portal, Regulations.gov, TTB will post, and the public may view, copies of this notice, selected supporting materials, and any electronic or mailed comments received about this proposal. A direct link to the Regulations.gov docket containing this notice and the posted comments received on it is available on the TTB Web site at http://www.ttb.gov/wine/wine-rulemaking.shtml under Notice No. 116. You may also reach the docket containing this notice and the posted comments received on it through the Regulations.gov search page at http://www.regulations.gov. All posted comments will display the commenter's name, organization (if any), city, and State, and, in the case of mailed comments, all address information, including e-mail addresses. TTB may omit voluminous attachments or material that it considers unsuitable for posting.

You and other members of the public may view copies of this notice, all related petitions, maps and other supporting materials, and any electronic or mailed comments TTB receives about this proposal by appointment at the TTB Information Resource Center, 1310 G Street, NW., Washington, DC 20220. You may also obtain copies for 20 cents per 8.5 x 11-inch page. Contact TTB's information specialist at the above address or by telephone at 202-453-2270 to schedule an appointment or to request copies of comments or other materials.

Regulatory Flexibility Act

TTB certifies under the provisions of the Regulatory Flexibility Act (5 U.S.C. 601 et seq.) that this proposed rule will not have a significant economic impact on a substantial number of small entities. The decision of a grape grower to petition for a grape variety name approval, or the decision of a wine bottler to use an approved name on a label, is entirely at the discretion of the grower or bottler. This regulation does not impose any new reporting, recordkeeping, or other administrative requirements. Accordingly, a regulatory flexibility analysis is not required.

Executive Order 12866

This proposed rule is not a significant regulatory action as defined by Executive Order 12866. Therefore, it requires no regulatory assessment.

Drafting Information

Jennifer Berry of the Regulations and Rulings Division, Alcohol and Tobacco Tax and Trade Bureau, drafted this document.

List of Subjects in 27 CFR Part 4

Administrative practice and procedure, Advertising, Customs duties and inspection, Imports, Labeling, Packaging and containers, Reporting and recordkeeping requirements, Trade practices, Wine.

Proposed Amendments to the Regulations

For the reasons discussed in the preamble, TTB proposes to amend 27 CFR part 4 as set forth below:

PART 4—LABELING AND ADVERTISING OF WINE

1. The authority citation for 27 CFR part 4 continues to read as follows:

Authority: 27 U.S.C. 205, unless otherwise noted.

2. Section 4.91 is amended:

a. By removing the word “prime” from the section heading and from the second sentence of the introductory text; and

b. By adding the word “variety” to the second sentence of the introductory text after the second use of “grape,” and

c. In the list of grape variety names following the introductory text, by removing the entries for “Agwam,” “Carignane,” “Durif,” “Grenache,” “Limberger (Lemberger),” “Malvasia bianca,” and “Petite Sirah” and by adding new entries in alphabetical order to read as follows:

§ 4.91 List of approved names.

* * * * *

Agawam

* * * * *

Auxerrois

* * * * *

Biancolella

* * * * *

Black Malvoisie (Cinsaut)

Black Monukka

Black Muscat (Muscat Hamburg)

* * * * *

Blaufränkish (Lemberger, Limberger)

* * * * *

Brianna

* * * * *

Cabernet Diane

Cabernet Doré

* * * * *

Canaiolo (Canaiolo Nero)

Canaiolo Nero (Canaiolo)

* * * * *

Carignan (Carignane)

Carignane (Carignan)

* * * * *

Corot noir

* * * * *

Crimson Cabernet

* * * * *

Durif (Petite Sirah)

* * * * *

Erbaluce

Favorite

* * * * *

Forastera

* * * * *

Freedom

* * * * *

French Colombard (Colombard)

Frontenac

Frontenac gris

* * * * *

Fumé blanc (Sauvignon blanc)

* * * * *

Garnacha (Grenache, Grenache noir)

Garnacha blanca (Grenache blanc)

* * * * *

Geneva Red 7

* * * * *

Graciano

* * * * *

Grenache (Garnacha, Grenache noir)

Grenache blanc (Garnacha blanca)

Grenache noir (Garnacha, Grenache)

* * * * *

Grüner Veltliner

* * * * *

Interlaken

* * * * *

Island Belle (Campbell Early)

* * * * *

La Crescent

* * * * *

Lagrein

* * * * *

Lemberger (Blaufränkish, Limberger)

* * * * *

Limberger (Blaufränkisch, Lemberger)

Louise Swenson

Lucie Kuhlmann

* * * * *

Malvasia bianca (Moscato greco)

Mammolo

* * * * *

Marquette

* * * * *

Mataro (Monastrell, Mourvèdre)

* * * * *

Melon (Melon de Bourgogne)

* * * * *

Monastrell (Mataro, Mourvèdre)

* * * * *

Montepulciano

* * * * *

Moscato greco (Malvasia bianca)

Mourvèdre (Mataro, Monastrell)

* * * * *

Muscat Canelli (Muscat blanc)

* * * * *

Negrara

* * * * *

Negro Amaro

Nero d'Avola

* * * * *

Noiret

* * * * *

Peloursin

Petit Bouschet

Petit Manseng

* * * * *

Petite Sirah (Durif)

* * * * *

Picpoul (Piquepoul blanc)

* * * * *

Pinot Grigio (Pinot gris)

* * * * *

Pinot Meunier (Meunier)

* * * * *

Piquepoul blanc (Picpoul)

Prairie Star

* * * * *

Princess

* * * * *

Refosco (Mondeuse)

* * * * *

Reliance

* * * * *

Rkatsiteli (Rkatziteli)

* * * * *

Rondinella

* * * * *

Sabrevois

* * * * *

Sagrantino

* * * * *

St. Pepin

St. Vincent

* * * * *

Sauvignon gris

* * * * *

Seyval blanc (Seyval)

Shiraz (Syrah)

* * * * *

Trebbiano (Ugni blanc)

* * * * *

Valdepeñas (Tempranillo)

* * * * *

Valiant

Valvin Muscat

* * * * *

Vergennes

Vermentino

* * * * *

Vignoles (Ravat 51)

* * * * *

White Riesling (Riesling)

Wine King

* * * * *

Zinthiana

Zweigelt

3. Section 4.92 is amended by adding paragraph (d) to read as follows:

§ 4.92 Alternative names permitted for temporary use.

* * * * *

(d) Wines bottled prior to [date one year after publication of the final rule in the Federal Register].

Alternative Name/Prime Name

Agwam—Agawam

Signed: October 8, 2010.
John J. Manfreda,
Administrator.

Approved: December 3, 2010.
Timothy E. Skud,
Deputy Assistant Secretary, Tax, Trade, and Tariff Policy.

[FR Doc. 2011-1134 Filed 1-19-11; 8:45 am]

BILLING CODE 4810-31-P